DEPARTMENT OF THE TREASURY

Office of Foreign Assets Control

Additional Designation of Entities and Individuals Pursuant to Executive Order 12978

AGENCY: Office of Foreign Assets Control, Treasury.

ACTION: Notice.

SUMMARY: The Treasury Department's Office of Foreign Assets Control (“OFAC”) is publishing the names of 25 newly-designated entities and 14 newly-designated individuals whose property and interests in property are blocked pursuant to Executive Order 12978 of October 21, 1995, “Blocking Assets and Prohibiting Transactions with Significant Narcotics Traffickers.”

DATES: The designation by the Director of OFAC of the 25 entities and 14 individuals identified in this notice pursuant to Executive Order 12978 is effective on November 10, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and the Secretary of State, to play a significant role in international narcotics trafficking centered in Colombia, or materially to assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On November 10, 2009, the Director of OFAC, in consultation with the Attorney General and the Secretary of State, as well as the Secretary of Homeland Security, designated 25 entities and 14 individuals whose property and interests in property are blocked pursuant to the Order.

The list of additional designees is as follows:

Entities

1. EUROMAR CARIBE S.A., Calle 7 No. 6-95, Edificio Marlin, Apto. 4A, Cartagena, Colombia; Carrera 3 No. 8-38, Cartagena, Colombia; NIT # 806008708-6 (Colombia); (ENTITY) [SDNT].

2. INVERSIONES EL PROGRESO S.A. (a.k.a. “I.P. S.A.”); Carrera 3 No. 8-38 Ofc. 1, Cartagena, Colombia; Carrera 4 No. 8-41, Cartagena, Colombia; Olaya Herrera Carrera 68 No. 32B-45, Cartagena, Colombia; NIT # 806006517-7 (Colombia); (ENTITY) [SDNT].

3. INVERSIONES LAMARC S.A., Carrera 3 No. 8-38, Cartagena, Colombia; Carrera 4a No. 8-41, Cartagena, Colombia; NIT # 900162108-6 (Colombia); (ENTITY) [SDNT].

4. PREFABRICADOS Y AGREGADOS DE COLOMBIA LTDA. (a.k.a. PREFAGRECOL LTDA.); La Cordialidad Transversal 54 No. 31I-150, Cartagena, Colombia; La Carolina Urbanizacion Carrera 86 No. 35-103, Cartagena, Colombia; Mamonal-Gambote Via Aguasprieta, Cartagena, Colombia; NIT # 900171299-2 (Colombia); (ENTITY) [SDNT].

5. SERVICIOS DE CONTROL INTEGRAL DE OBRAS S.L. SIP SUCURSAL CARTAGENA, Carrera 3 No. 8-38, Cartagena, Colombia; Carrera 4 No. 8-41, Cartagena, Colombia; NIT # 900106267-0 (Colombia); (ENTITY) [SDNT].

6. BIENES Y VALORES B Y V S.A. (a.k.a. B Y V S.A.); Calle 100 No. 8A-49, Trr. B, Oficina 505, Bogota, Colombia; NIT # 900058166-9 (Colombia); (ENTITY) [SDNT].

7. COMERCIALIZADORA INTERNACIONAL ASFALTOS Y AGREGADOS LAS CASCAJERA S.A. (a.k.a. A Y A LA CASCAJERA S.A.); Calle 100 No. 8A-49, Trr. B, Oficina 505, Bogota, Colombia; NIT # 900155202-1 (Colombia); (ENTITY) [SDNT].

8. INGENIERIA TECNICA EN COMUNICACIONES LTDA. (a.k.a. INTENCOM); Carrera 4 No. 26-33, Local 102, Cali, Colombia; (ENTITY) [SDNT].

9. GESTION DE ADMINISTRACIONES SIP S.L., Avenida Miramar No. 17 Portal 2 7 F, Fuengirola, Malaga 29640, Spain; C.I.F. B-92255363 (Spain); (ENTITY) [SDNT].

10. PATRIMONIO DE GESTION Y ADMINISTRACION SIP S.L., Avenida Jesus Santos Rein Edificio Ofisol 4 1 A, Fuengirola, Malaga 29640, Spain; C.I.F. B-92255389 (Spain); (ENTITY) [SDNT].

11. SERVICIOS DE CONTROL INTEGRAL DE OBRAS S.L. (a.k.a. SIP PROJECT MANAGEMENT); Parque Tecnologico Andalucia Centro De Empresas P-7 Avenida Juan Lopez P 17, Campanillas, Malaga 29590, Spain; Calle Marie Curie Edificio I+D 11 No. 4 Planta 1a Oficina D-9 Parque Tecnologico De Andalucia, Campanillas, Malaga 29590, Spain; C.I.F. B-92174689 (Spain); (ENTITY) [SDNT].

12. SERVICIOS DE CONTROL INTEGRAL FACILITIES MANAGEMENT S.L., Calle Marie Curie Edificio I+D 11 No. 4 Planta 1a Oficina D-9 Parque Tecnologico De Andalucia, Campanillas, Malaga 29590, Spain; C.I.F. B-92649276 (Spain); (ENTITY) [SDNT].

13. SIP CONSULTANCY SERVICES S.L., Calle Marie Curie Edificio I+D 11 No. 4 Planta 1a Oficina D-9 Parque Tecnologico De Andalucia, Campanillas, Malaga 29590, Spain; C.I.F. B-92725514 (Spain); (ENTITY) [SDNT].

14. COLOMBIA REAL ESTATE DEVELOPMENT B.V., Locatellikade 1 Parnassustrn, Amsterdam 1076 AZ, Netherlands; P.O. Box 87459, Amsterdam 1080 JL, Netherlands; Tax ID No. Haarlem 34288890 (Netherlands); (ENTITY) [SDNT].

15. LAUREANO RAMOS GABINETE TECNICO S.L., Calle Inca 5 Portal 1 Bloque IV 2 D, Fuengirola, Malaga 29640, Spain; C.I.F. B-92219831 (Spain); (ENTITY) [SDNT].

16. GENERAL DE OBRAS Y ALQUILERES S.A. (a.k.a. GOYASA); 9 Calle Juan Ramon Jimenez, Marbella, Malaga 29601, Spain; Urbanizacion Puente Romano Fase II Local 37-38, Marbella, Malaga 29602, Spain; Calle Castillo De Ponferrada 56 Villafranca Del Castillo, Madrid 28692, Spain; Calle Castillo De Ponferrada 54 Villanueva De La Canada, Madrid 28692, Spain; Co. Cruz No. 5, Madrid 28023, Spain; Calle Pere De Lluna 17, Reus, Tarragona 43204, Spain; Calle Coso 98-100, Zaragoza, Zaragoza 50001, Spain; C.I.F. A-81847204 (Spain); (ENTITY) [SDNT].

17. UNDER PAR REAL ESTATE S.L., Calle Marques Del Duero 76-3C San Pedro De Alcantara, Marbella, Malaga 29670, Spain; C.I.F. B-92678473 (Spain); (ENTITY) [SDNT].

18. TRACKING INOVATIONS S.L., Calle Marques Del Duero 76-3C San Pedro De Alcantara, Marbella, Malaga 29670, Spain; C.I.F. B-63971360 (Spain); (ENTITY) [SDNT].

19. AURIGA INTERLEXUS S.L., Calle Marques Del Duero, 76 (PLT 3C), San Pedro De Alcantara, Marbella, Malaga 29670, Spain; C.I.F. B-64252703 (Spain); (ENTITY) [SDNT].

20. QUANTICA PROJECT S.L., Calle Marques Del Duero, 76—PLT 3C, San Pedro De Alcantara, Marbella, Malaga 29670, Spain; C.I.F. B-64472814 (Spain); (ENTITY) [SDNT].

21. HORMAC PLANNING S.L., Calle Marques Del Duero, 76—Plt 3C, San Pedro De Alcantara, Marbella, Malaga 29670, Spain; C.I.F. B-64472756 (Spain); (ENTITY) [SDNT].

22. PROYECTO EMPRESARIAL COSTA ARENA S.L., Urbanizacion Puente Romano Fase II Local Bajo 37-38, Marbella, Malaga 29602, Spain; C.I.F. B-92506872 (Spain); (ENTITY) [SDNT].

23. ARAWAK HOLDING B.V., Locatellikade 1 Parnassustrn, Amsterdam 1076 AZ, Netherlands; P.O. Box 87459, Amsterdam 1080 JL, Netherlands; Tax ID No. Haarlem 34288894 (Netherlands); (ENTITY) [SDNT].

24. BANCA DE INVERSION Y MERCADO DE CAPITALES S.A. (a.k.a. BIMERC S.A.); Avenida 6N No. 17-92 Oficina 802, Cali, Colombia; NIT # 800238316-7 (Colombia); (ENTITY) [SDNT].

25. GAMBOA Y GAMBOA LTDA., Carrera 9 No. 70A-35 P. 7, Bogota, Colombia; NIT # 800013236-1 (Colombia); (ENTITY) [SDNT].

Individuals

1. MEJIA URIBE, Hernando (a.k.a. URIBE PATINO, Juan Carlos); c/o EUROMAR CARIBE S.A., Cartagena, Colombia; c/o INGENIERIA TECNICA EN COMUNICACIONES LTDA., Cali, Colombia; c/o INVERSIONES LAMARC S.A., Cartagena, Colombia; c/o INVERSIONES EL PROGRESO S.A., Cartagena, Colombia; c/o PREFABRICADOS Y AGREGADOS DE COLOMBIA LTDA., Cartagena, Colombia; c/o SERVICIOS DE CONTROL INTEGRAL DE OBRAS S.L. SIP SUCURSAL CARTAGENA, Cartagena, Colombia; c/o COMERCIALIZADORA INTERNACIONAL ASFALTOS Y AGREGADOS LAS CASCAJERA S.A., Bogota, Colombia; c/o BIENES Y VALORES B Y V S.A., Bogota, Colombia; Calle 7 No. 6-95, Edificio Marlin, Apto. 4A, Cartagena, Colombia; No. 22 del Conjunto Residencial Ciudadela Pasoancho II Etapa Conjunto 2 Urbanizacion Villas III Carrera 81 No. 13B-179, Cali, Colombia; Carrera 11 No. 21-59/53 y 10-64, Cali, Colombia; Carrera 127 No. 10A-10, Cali, Colombia; Calle 11 No. 21-42, Cali, Colombia; Calle 21 No. 10-52, Cali, Colombia; Calle 21 No. 10-55, Cali, Colombia; Calle 22 No. 10-40, Cali, Colombia; Calle 22 No. 10-44, Cali, Colombia; Calle 54 No. 10-B-101, Barranquilla, Colombia; Los Pompones, Corregimiento De Rejoya, Popayan, Cauca, Colombia; DOB 20 Dec 1949; POB Manizalez, Caldas, Colombia; Cedula No. 8308983 (Colombia); Cedula No. 16796652 (Colombia); (INDIVIDUAL) [SDNT].

2. BOTERO ARISTIZABAL, Maria Emma, c/o EUROMAR CARIBE S.A., Cartagena, Colombia; c/o INVERSIONES EL PROGRESO S.A., Cartagena, Colombia; c/o INVERSIONES LAMARC S.A., Cartagena, Colombia; Calle 7 No. 6-95, Edificio Marlin, Apto. 4A, Cartagena, Colombia; No. 22 del Conjunto Residencial Ciudadela Pasoancho II Etapa Conjunto 2 Urbanizacion Villas III Carrera 81 No. 13B-179, Cali, Colombia; Apto. No. 1003-B, Edificio Torres De La Cincuenta, Calle 9B No. 50-15, Cali, Colombia; Penthouse 802A, Carrera 77 No. 13A-1-29, Cali, Colombia; Carrera 92 No. 162-40, Bogota, Colombia; DOB 24 Sep 1951; POB Sonson, Antioquia, Colombia; Cedula No. 32518408 (Colombia); (INDIVIDUAL) [SDNT].

3. BAENA CARDENAS, Luis Gonzalo, c/o BANCA DE INVERSION Y MERCADO DE CAPITALES S.A., Cali, Colombia; DOB 30 Jul 1955; Cedula No. 19266564 (Colombia); (INDIVIDUAL) [SDNT].

4. GAMBOA MORALES, Luis Carlos, c/o GAMBOA Y GAMBOA LTDA., Bogota, Colombia; Carrera 9 No. 70A—35 Piso 7, Bogota, Colombia; DOB 20 Dec 1957; Cedula No. 3228859 (Colombia); (INDIVIDUAL) [SDNT].

5. BARRIGA FAYAD, Luis Santiago, c/o EUROMAR CARIBE S.A., Cartagena, Colombia; c/o INVERSIONES EL PROGRESO S.A., Cartagena, Colombia; c/o INVERSIONES LAMARC S.A., Cartagena, Colombia; Carrera 4 No. 4-139, Cartagena, Colombia; Cedula No. 73085554 (Colombia); (INDIVIDUAL) [SDNT].

6. DIAZ CHACON, Inmaculada, c/o EUROMAR CARIBE S.A., Cartagena, Colombia; c/o INVERSIONES EL PROGRESO S.A., Cartagena, Colombia; Cedula No. 40976673 (Colombia); (INDIVIDUAL) [SDNT].

7. FERNANDEZ VIEJO, Alfredo, c/o INVERSIONES EL PROGRESO S.A., Cartagena, Colombia; DOB 15 Dec 1954; Cedula No. 206946 (Extranjeria) (Colombia); (INDIVIDUAL) [SDNT].

8. LOSADA DUSSAN, Jacqueline (a.k.a. LOSADA DUSSAN, Jacueline; a.k.a. LOZADA DUSSAN, Jacqueline); c/o EUROMAR CARIBE S.A., Cartagena, Colombia; c/o INVERSIONES EL PROGRESO S.A., Cartagena, Colombia; c/o INVERSIONES LAMARC S.A., Cartagena, Colombia; Calle 29B No. 20-141, Cartagena, Colombia; DOB 06 Mar 1966; Alt. DOB 03 Jun 1966; Cedula No. 36175880 (Colombia); (INDIVIDUAL) [SDNT].

9. PARRA MILLARES, Sixto, c/o INVERSIONES EL PROGRESO S.A., Cartagena, Colombia; c/o INVERSIONES LAMARC S.A., Cartagena, Colombia; c/o SERVICIOS DE CONTROL INTEGRAL DE OBRAS S.L. SIP SUCURSAL CARTAGENA, Cartagena, Colombia; Cedula No. 73190399 (Colombia); (INDIVIDUAL) [SDNT].

10. ALVAREZ RAMOS, Prisiliano Enrique (a.k.a. ALVAREZ RAMOS, Prisciliano); c/o PREFABRICADOS Y AGREGADOS DE COLOMBIA LTDA., Cartagena, Colombia; DOB 20 Jun 1969; Cedula No. 70524763 (Colombia); (INDIVIDUAL) [SDNT].

11. VERTEL ANAYA, Clara Julia, c/o PREFABRICADOS Y AGREGADOS DE COLOMBIA LTDA., Cartagena, Colombia; DOB 21 Mar 1969; Cedula No. 42652411 (Colombia); (INDIVIDUAL) [SDNT].

12. RAMOS RODRIGUEZ, Laureano, c/o INVERSIONES EL PROGRESO S.A., Cartagena, Colombia; c/o INVERSIONES LAMARC S.A., Cartagena, Colombia; c/o SERVICIOS DE CONTROL INTEGRAL DE OBRAS S.L. SIP SUCURSAL CARTAGENA, Cartagena, Colombia; c/o SERVICIOS DE CONTROL INTEGRAL DE OBRAS S.L., Campanillas, Malaga, Spain; c/o SERVICIOS DE CONTROL INTEGRAL FACILITIES MANAGEMENT S.L., Campanillas, Malaga, Spain; c/o SIP CONSULTANCY SERVICES S.L., Campanillas, Malaga, Spain; c/o PATRIMONIO DE GESTION Y ADMINISTRACION SIP S.L., Fuengirola, Malaga, Spain; c/o LAUREANO RAMOS GABINETE TECNICO S.L., Fuengirola, Malaga, Spain; c/o GESTION DE ADMINISTRACIONES SIP S.L., Fuengirola, Malaga, Spain; c/o COLOMBIA REAL ESTATE DEVELOPMENT B.V., Amsterdam, Netherlands; Calle Marie 4 1-D9, Campanillas, Malaga, Spain; DOB 08 Nov 1963; POB Fuengirola, Malaga, Spain; D.N.I. 27377459-F (Spain); Passport AD 320707 (Spain); Passport BA 848697 (Spain); (INDIVIDUAL) [SDNT].

13. FERNANDEZ MONTERO, Marco Jose, c/o INVERSIONES EL PROGRESO S.A., Cartagena, Colombia; c/o INVERSIONES LAMARC S.A., Cartagena, Colombia; c/o ARAWAK HOLDING B.V., Amsterdam, Netherlands; c/o AURIGA INTERLEXUS S.L., Marbella, Malaga, Spain; c/o GENERAL DE OBRAS Y ALQUILERES S.A., Marbella, Malaga, Spain; c/o HORMAC PLANNING S.L., Marbella, Malaga, Spain; c/o QUANTICA PROJECT S.L., Marbella, Malaga, Spain; c/o TRACKING INOVATIONS S.L., Marbella, Malaga, Spain; c/o UNDER PAR REAL ESTATE S.L., Marbella, Malaga, Spain; Calle Marques Del Duero 76-3C San Pedro De Alcantara, Marbella, Malaga, Spain; Calle Sierra De Cazorla, Residencial La Cascada, Bloque 1, Bajos 1B, Marbella, Malaga, Spain; Calle Chamberi 7, Montellano, Becerril De La Sierra, Madrid 28490, Spain; DOB 21 Dec 1970; POB Madrid, Spain; D.N.I. 07497033-E (Spain); Passport AC 018964 (Spain); (INDIVIDUAL) [SDNT].

14. AVENDANO MUNERA, Jairo Ivan, Carrera 52 No. 41-81, Edificio El Polo, Medellin, Colombia; DOB 26 Aug 1960; Cedula No. 71589827 (Colombia); (INDIVIDUAL) [SDNT].

Dated: November 10, 2009.
Adam J. Szubin,
Director, Office of Foreign Assets Control.

[FR Doc. E9-27460 Filed 11-16-09; 8:45 am]

BILLING CODE 4811-45-P